DEPARTMENT OF THE INTERIOR

Bureau of Land Management

[LLCO-9230000-L1440000-ET0000; COC 013297]

Public Land Order No. 7847; Partial Revocation of a Public Land Order No. 1378; Colorado

AGENCY: Bureau of Land Management, Department of the Interior.

ACTION: Public land order.

SUMMARY: This order partially revokes the withdrawal created by Public Land Order No. 1378 insofar as it affects 21.91 acres reserved for the use of the United States Forest Service as the Sunshine Campground. This order also opens the land to appropriation and use of all kinds under the public land laws, except for the United States mining laws.

DATES: The effective date is: December 30, 2015.

FOR FURTHER INFORMATION CONTACT: Valerie Hunt, U.S. Forest Service, Rocky Mountain Region 2, 303-275-5071; or Steve Craddock, Bureau of Land Management, Colorado State Office, 303-239-3707; or write: Land Tenure Program Lead, BLM Colorado State Office, 2850 Youngfield Street, Lakewood, Colorado 80215-7093. Persons who use a telecommunications device for the deaf (TDD) may call the Federal Information Relay Service (FIRS) at 1-800-877-8339 to contact the above individuals. The FIRS is available 24 hours a day, 7 days a week, to leave a message or question. You will receive a reply during normal business hours.

SUPPLEMENTARY INFORMATION: The United States Forest Service determined that a portion of the land withdrawn and reserved for the Sunshine Campground is not needed for picnic or recreation use, and has requested a partial revocation of the withdrawal. The land will remain segregated from the United States mining laws due to a pending land exchange proposal.

Order

By virtue of the authority vested in the Secretary of the Interior by Section 204 of the Federal Land Policy and Management Act of 1976, 43 U.S.C. 1714, it is ordered as follows:

1. The withdrawal created by Public Land Order No. 1378 (22 FR 240 (1957)) is hereby revoked in part as to the following described land:

Uncompahgre National Forest

New Mexico Principal Meridian

T. 42 N., R. 9 W.,

Sec. 20, lot 11.

The area described contains 21.91 acres in San Miguel County.

2. At 9 a.m. on December 30, 2015, subject to valid existing rights, the provisions of existing withdrawals, other segregations of record, and the requirements of applicable law, the land described in Paragraph 1 is hereby opened to such forms of disposition as may be made of National Forest System land, except for location and entry under the United States mining laws.

Dated: December 15, 2015.
Janice M. Schneider,
Assistant Secretary, Land and Minerals Management.

[FR Doc. 2015-32862 Filed 12-29-15; 8:45 am]

BILLING CODE 3411-15-P